DEPARTMENT OF HEALTH AND HUMAN SERVICES

Administration for Community Living

[OMB# 0985-New]

Agency Information Collection Activities; Proposed Collection; Comment Request; Evidence Based Program Fidelity Surveys

AGENCY: Administration for Community Living, HHS.

ACTION: Notice.

SUMMARY: The Administration for Community Living (ACL) is announcing an opportunity for the public to comment on the proposed collection of information listed above. Under the Paperwork Reduction Act of 1995 (the PRA), Federal agencies are required to publish a notice in the Federal Register concerning each proposed collection of information, including each proposed extension of an existing collection of information, and to allow 60 days for public comment in response to the notice. This notice solicits comments on the information collection requirements relating to a Grantee Survey and a Local Implementation Organization Survey that will be used by ACL to evaluate the fidelity with which ACL and its grantee organizations, under the Older Americans Act, implement the required evidence-based programs.

DATES: Comments on the collection of information must be submitted electronically by 11:59 p.m. (EST) or postmarked by September 10, 2021.

ADDRESSES: Submit electronic comments on the collection of information to: Susan.Jenkins@acl.hhs.gov. Submit written comments on the collection of information to Administration for Community Living, Washington, DC 20201, Attention: Susan Jenkins.

FOR FURTHER INFORMATION CONTACT: Susan Jenkins, Administration for Community Living, Washington, DC 20201, 202-795-7369 or by email: Susan.Jenkins@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) Whether the proposed collection of information is necessary for the proper performance of ACL's functions, including whether the information will have practical utility;

(2) the accuracy of ACL's estimate of the burden of the proposed collection of information, including the validity of the methodology and assumptions used to determine burden estimates; (3) ways to enhance the quality, utility, and clarity of the information to be collected; and

(4) ways to minimize the burden of the collection of information on respondents, including through the use of automated collection techniques when appropriate, and other forms of information technology.

The Evidence Based Program Fidelity Surveys will be used by ACL to evaluate the fidelity with which ACL's grantee organizations, under the Older Americans Act, implement the required evidence-based programs. States that receive Older Americans Act funds under Title III-D are required to spend those funds on evidence-based programs to improve the health and well-being of their clients and to reduce disease and injury. Since 2003, the aging services network has been steadily moving towards wider implementation of disease prevention and health promotion programs that are based on scientific evidence and demonstrated to improve the health of older adults. The FY 2012 Congressional appropriations law included, for the first time, an evidence-based requirement related to Title III-D funds.

The results of this information collection will be used by ACL/AoA to:

• Effectively report its results to the President, to Congress, to the Department of Health and Human Services and to the public.

• Assess the effectiveness of ACL and its grantees in monitoring program fidelity.

• Aid in program refinement and continuous improvement.

To comment on this information collection please visit the ACL website: https://www.acl.gov/about-acl/public-input.

Estimated Program Burden

ACL estimates the burden associated with this collection of information as follows:

Respondent/data collection activity | Number of respondents | Responses per respondent | Hours per response | Annual burden hours
Grantee: Program selection process and survey | 103 | 1 | 2.00 | 206
Local Implementation Organization Survey | 412 | 1 | 0.67 | 275
Total | 515 | 1 | 0.93 | 481

Dated: July 6, 2021.
Alison Barkoff,
Acting Administrator and Assistant Secretary for Aging.

[FR Doc. 2021-14700 Filed 7-9-21; 8:45 am]

BILLING CODE 4154-01-P